DEPARTMENT OF AGRICULTURE

Agricultural Marketing Service

[Doc. No. FV-03-378]

Notice of Request for New Information Collection

AGENCY: Agricultural Marketing Service, USDA.

ACTION: Notice and request for comments.

SUMMARY: In accordance with the Paperwork Reduction Act of 1995 (44 U.S.C. Chapter 35), this notice announces that the Agricultural Marketing Service (AMS) is requesting approval from the Office of Management and Budget of a new information collection: the USDA Food and Commodity Connection Web site.

DATES: Comments received by April 5, 2004 will be considered.

ADDITIONAL INFORMATION OR COMMENTS: Contact Lynne E. Yedinak, Food Quality Assurance Staff, Fruit and Vegetable Programs, Agricultural Marketing Service, U.S. Department of Agriculture, STOP 0243, 1400 Independence Avenue, SW., Washington, DC 20250-0243, telephone: (202) 720-9939 and Fax: (202) 690-0102.

SUPPLEMENTARY INFORMATION: Title: USDA Food and Commodity Connection Web site.

OMB Number: 0581-New.

Expiration Date of Approval: 3 years from date of OMB approval.

Type of Request: New Information Collection.

Abstract: The information collection requirements in this request are needed for the operation of the U.S. Department of Agriculture (USDA) Food and Commodity Connection Web site, which operates pursuant to the authority of Section 32 of Public Law 74-320. The USDA Food and Commodity Connection Web site supports the U.S. Department of Agriculture, Agricultural Marketing Service mission of facilitating the efficient, fair marketing of U.S. agricultural products. Registering to participate on or use of the USDA Food and Commodity Connection Web site is voluntary.

The USDA Food and Commodity Connection Web site is being developed to assist the institutional food service community across the United States. The USDA Food and Commodity Connection Web site focuses on providing information and assistance to institutional food service professionals (public and private schools, the military, Veterans Administration facilities, Native American facilities, health care facilities, colleges and universities, prisons, child care facilities and facilities for needy families) in identifying processors who can further process (manufacture value-added foods) USDA supplied commodities that best meet their nutritional requirements. At the same time, the USDA Food and Commodity Connection Web site provides a platform for processors, distributors, and brokers to post information about their commercial food products, in addition to their further processed USDA supplied commodities, that are available for use by institutional food service professionals.

Institutional food service professionals (public and private schools, the military, Veterans Administration facilities, Native American facilities, health care facilities, colleges and universities, prisons, child care facilities and facilities for needy families) who choose to register on the USDA Food and Commodity Connection Web site will provide the following information: the registrant's name, position, e-mail address, telephone number, school/organization name, and address. Processors who choose to register on the USDA Food and Commodity Connection Web site provide the following information: confirmation that the company is eligible to participate in Federal procurement, the registrant's name, position, e-mail address, telephone number, company name, address, country, UCC ID (Uniform Code Council identification number), and whether they are a national or regional processor. Distributors who choose to register on the USDA Food and Commodity Connection Web site provide the following information: the registrant's name, position, e-mail address, telephone number, company name, address, country, UCC ID (Uniform Code Council identification number), and whether they are a national or regional distributor. Brokers who choose to register on the USDA Food and Commodity Connection Web site provide the following information: the registrant's name, position, e-mail address, telephone number, brokerage company name, address, country, and whether they are a national or regional broker. Information provided by institutional food service professionals assists producers, distributors, and brokers in locating potential customers. Producer's and distributor's food service product and contact information is available to the institutional food service professionals to assist them in locating producers and distributors that handle the food products that they want to use. The information provided by brokers enables institutional food service professionals to know which manufacturers the broker represents, the States which that broker serves, and contacts at the brokerage firm. All registrants on the USDA Food and Commodity Connection Web site choose their own user ID and password.

The total burden for the proposed information collection for the USDA Food and Commodity Connection Web site is as follows:

Estimate of Burden: Public reporting burden for this collection of information is estimated to average 0.26 hours per response.

Respondents: Institutional food service professionals (public and private schools, the military, Veterans Administration facilities, Native American facilities, health care facilities, colleges and universities, prisons, child care facilities, and facilities for needy families), processors, distributors, and brokers.

Estimated Number of Respondents: 800 (300 institutional food service professionals, 300 processors, 100 distributors, and 100 brokers).

Estimated Number of Responses: 15,200.

Estimated Number of Responses per Respondent: 19.

Estimated Total Annual Burden on Respondents: 3,942 hours.

For each new registration submission, the proposed request for approval of new information collections on the USDA Food and Commodity Connection Web site is as follows:

Institutional Food Service Professional registration submission. Institutional food service professionals (public and private schools, the military, Veterans Administration facilities, Native American facilities, health care facilities, colleges and universities, prisons, child care facilities and facilities for needy families) use this registration submission to create their user profile.

Estimate of Burden: Public reporting burden for this collection of information is estimated to average 7 minutes per response.

Respondents: Institutional food service professionals (public and private schools, the military, Veterans Administration facilities, Native American facilities, health care facilities, colleges and universities, prisons, child care facilities and facilities for needy families).

Estimated Number of Respondents: 300.

Estimated Number of Responses: 300.

Estimated Number of Responses per Respondent: Respondents only complete the registration once.

Estimated Total Annual Burden on Respondents: 33 hours.

Processors registration submission. Processors use this registration submission to register their companies.

Estimate of Burden: Public reporting burden for this collection of information is estimated to average 9 minutes per response.

Respondents: Processors.

Estimated Number of Respondents: 300.

Estimated Number of Responses: 300.

Estimated Number of Responses per Respondent: Respondents only complete the registration once.

Estimated Total Annual Burden on Respondents: 45 hours.

Processors Add a Plant and Request an Audit registration submission. Processors use this submission to register the plants in which they manufacture their products.

Estimate of Burden: Public reporting burden for this collection of information is estimated to average 8 minutes per response.

Respondents: Processors.

Estimated Number of Respondents: 300.

Estimated Number of Responses: 300.

Estimated Number of Responses per Respondent: Each respondent completes this submission once for each plant they register.

Estimated Total Annual Burden on Respondents: 41 hours.

Processors Add a New Product registration submission. Processors use this registration submission to register information about their products manufactured from USDA supplied commodities and their commercial food products. Processors may include additional product information including but not limited to: ingredients, product description, preparation and cooking instructions, nutrients, package and packaging data, and product fact sheet link.

Estimate of Burden: Public reporting burden for this collection of information is estimated to average 16 minutes per response.

Respondents: Processors.

Estimated Number of Respondents: 300.

Estimated Number of Responses: 3,000.

Estimated Number of Responses per Respondent: 10. Each respondent completes this submission once for each product they register.

Estimated Total Annual Burden on Respondents: 810 hours.

Distributors registration submission. Distributors use this registration submission to register their food service distribution companies.

Estimate of Burden: Public reporting burden for this collection of information is estimated to average 9 minutes per response.

Respondents: Distributors.

Estimated Number of Respondents: 100.

Estimated Number of Responses: 100.

Estimated Number of Responses per Respondent: Respondents only complete the registration once.

Estimated Total Annual Burden on Respondents: 15 hours.

Distributors Add a Warehouse and Request an Audit registration submission. Distributors use this submission to register the warehouses in which they store the products they list.

Estimate of Burden: Public reporting burden for this collection of information is estimated to average 8 minutes per response.

Respondents: Distributors.

Estimated Number of Respondents: 100.

Estimated Number of Responses: 100.

Estimated Number of Responses per Respondent: Each respondent completes this submission once for each plant they register.

Estimated Total Annual Burden on Respondents: 14 hours.

Distributors Add a New Product registration submission. Distributors use this registration submission to register information about their products manufactured from USDA supplied commodities and their commercial food products. Distributors may include additional product information including but not limited to: ingredients, product description, preparation and cooking instructions, nutrients, package and packaging data, and product fact sheet link.

Estimate of Burden: Public reporting burden for this collection of information is estimated to average 16 minutes per response.

Respondents: Distributors.

Estimated Number of Respondents: 100.

Estimated Number of Responses: 10,000.

Estimated Number of Responses per Respondent: 100. Each respondent completes this submission once for each product they register.

Estimated Total Annual Burden on Respondents: 2,700 hours.

Brokers registration submission. Brokers use this registration submission to register the companies they represent.

Estimate of Burden: Public reporting burden for this collection of information is estimated to average 9 minutes per response.

Respondents: Brokers.

Estimated Number of Respondents: 100.

Estimated Number of Responses: 100.

Estimated Number of Responses per Respondent: Respondents only complete the registration once.

Estimated Total Annual Burden on Respondents: 15 hours.

Brokers Add a Company registration submission. Brokers use this submission to register the processors that they represent.

Estimate of Burden: Public reporting burden for this collection of information is estimated to average 16 minutes per response.

Respondents: Brokers.

Estimated Number of Respondents: 100.

Estimated Number of Responses: 1,000.

Estimated Number of Responses per Respondent: 10. Each respondent completes this submission once for each company they represent.

Estimated Total Annual Burden on Respondents: 270 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Lynne E. Yedinak, Food Quality Assurance Staff, Fruit and Vegetable Programs, Agricultural Marketing Service, U.S. Department of Agriculture, STOP 0243, 1400 Independence Avenue, SW., Washington, DC 20250-0243, telephone: (202) 720-9939 and Fax: (202) 690-0102. All comments received will be available for public inspection during regular business hours at the same address.

All responses to this notice will be summarized and included in the request for OMB approval. All comments will become a matter of public record.

Dated: January 29, 2004.
A.J. Yates,
Administrator, Agricultural Marketing Service.

[FR Doc. 04-2432 Filed 2-4-04; 8:45 am]

BILLING CODE 3410-02-P